DEPARTMENT OF HOMELAND SECURITY

Federal Emergency Management Agency

44 CFR Part 65

[Docket No. FEMA-D-7549]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Delaware:
Kent | City of Dover | Nov. 24, 2003, Delaware State News | Mr. Anthony J. DePrima, AICP, City of Dover Manager, P.O. Box 4751, Dover, Delaware 19903-0475 | Dec. 26, 2003 | 100006 H
New Castle | Unincorporated areas | Nov. 10, 2003, Nov. 17, 2003, The News Journal | Mr. Thomas P. Gordon, New Castle County Executive, New Castle County Government Center, 87 Reads Way, New Castle, Delaware 19720 | Oct. 30, 2003 | 105085 G
Florida:
Duval | City of Jacksonville | Nov. 21, 2003, Nov. 28, 2003, The Florida Times-Union | The Honorable John Peyton, Mayor of the City of Jacksonville, 4th Floor, City Hall at St. James, 117 West Duval Street, Suite 400, Jacksonville, Florida 32202 | Nov. 10, 2003 | 120077 E
Orange | Unincorporated areas | Nov. 5, 2003, Nov. 12, 2003, Orlando Sentinel | M. Krishnamurthy, Ph.D., P.E., Orange County Stormwater Management Manager, 4200 South John Young Parkway, Orlando, Florida 32839 | Feb. 11, 2004 | 120179 E
Georgia:
Fulton | City of Alpharetta | Oct. 10, 2003, Oct. 17, 2003, Fulton County Daily Report | The Honorable Arthur Letchas, Mayor of the City of Alpharetta, Two South Main Street, Alpharetta, Georgia 30004 | Oct. 3, 2003 | 130084 E
Fulton | City of Roswell | Oct. 10, 2003, Oct. 17, 2003, Fulton County Daily Report | The Honorable Jere Wood, Mayor of the City of Roswell, 38 Hill Street, Suite 115, Roswell, Georgia 30075 | Oct. 3, 2003 | 130088 E
Oconee | City of Watkinsville | Dec. 4, 2003, Dec. 11, 2003, Oconee Enterprise | The Honorable W. B. Hardigree, Mayor of the City of Watkinsville, P.O. Box 27, Watkinsville, Georgia 31827 | May 20, 2003 | 130369 A
Kentucky:
Jefferson | Unincorporated areas | Oct. 27, 2003, Nov. 3, 2003, The Courier-Journal | The Honorable Jerry Abramson, Mayor of Metro Louisville/Jefferson County, 527 West Jefferson Street, Suite 400, Louisville, Kentucky 40202 | Oct. 17, 2003 | 210120 D
| Lexington-Fayette Urban County Government | Oct. 10, 2003, Oct. 17, 2003, Lexington Herald-Leader | The Honorable Teresa Isaac, Mayor of the Lexington-Fayette Urban County Government, 200 East Main Street, 12th Floor, Lexington, Kentucky 40507 | Jan. 16, 2004 | 210067 C
Pike | Unincorporated areas | Nov. 5, 2003, Nov. 12, 2003, Appalachian News-Express | The Honorable William M. Deskins, Pike County Judge/Executive, Pike County Courthouse, 146 Main Street, Pikeville, Kentucky 41501 | Oct. 29, 2003 | 210298 F
Mississippi:
Hinds, Rankin, and Madison | City of Jackson | Oct. 7, 2003, Oct. 14, 2003, The Clarion-Ledger | The Honorable Harvey Johnson, Jr., Mayor of the City of Jackson, P.O. Box 17, 219 South President Street, Jackson, Mississippi 39205-0017 | Jan. 13, 2004 | 280072 F,G
Madison | Unincorporated areas | Oct. 7, 2003, Oct. 14, 2003, The Clarion-Ledger | Mr. David H. Richardson, President of the Madison County Board of Supervisors, P.O. Box 608, 146 West Center Street, Canton, Mississippi 39046 | Jan. 13, 2004 | 280228 D
Madison | City of Ridgeland | Oct. 7, 2003, Oct. 14, 2003, The Clarion-Ledger | The Honorable Gene F. McGee, Mayor of the City of Ridgeland, P.O. Box 217, Ridgeland, Mississippi 39158 | Jan. 13, 2004 | 280110 D
Madison | City of Ridgeland | Oct. 13, 2003, Oct. 20, 2003, The Clarion-Ledger | The Honorable Gene F. McGee, Mayor of the City of Ridgeland, P.O. Box 217, Ridgeland, Mississippi 39158 | Oct. 6, 2003 | 280110 D
New Jersey:
Union | Borough of Roselle | Nov. 14, 2003, Nov. 21, 2003, Home News Tribune | The Honorable Joseph E. Croteau, Mayor of the Borough of Roselle, 210 Chestnut Street, Roselle, New Jersey 07203 | Feb. 20, 2004 | 340472 A
New York:
Ulster | Town of Woodstock | Nov. 13, 2003, Nov. 20, 2003, Woodstock Times | Mr. Jeremy Wilbur, Supervisor of the Town of Woodstock, 45 Comeau Drive, Woodstock, New York 12498 | May 3, 2004 | 360868 B
Ulster | Town of Woodstock | Nov. 21, 2003, Nov. 28, 2003, Woodstock Times | Mr. Jeremy Wilbur, Supervisor of the Town of Woodstock, 45 Comeau Drive, Woodstock, New York 12498 | May 17, 2004 | 360868 B
North Carolina:
Durham | City of Durham | Oct. 21, 2003, Oct. 28, 2003, The Herald-Sun | The Honorable William V. Bell, Mayor of the City of Durham, 101 City Hall Plaza, Durham, North Carolina 27701 | Jan. 27, 2004 | 370086 G
Puerto Rico | Commonwealth | Nov. 7, 2003, Nov. 14, 2003, The San Juan Star | The Honorable Sila M. Calderon, Governor of the Commonwealth of Puerto Rico, Office of the Governor, P.O. Box 9020082, San Juan, Puerto Rico 00902-0082 | Feb. 13, 2004 | 720000 C
South Carolina:
Charleston | City of Isle of Palms | Nov. 6, 2003, Nov. 13, 2003, Post and Courier | The Honorable F. Michael Sottile, Mayor of the City of Isle of Palms, P.O. Box 508, Isle of Palms, South Carolina 29451 | Oct. 30, 2003 | 455416 E
West Virginia:
Mingo | City of Williamson | Nov. 6, 2003, Nov. 13, 2003, The Williamson Daily News | The Honorable Charles S. West, Mayor of the City of Williamson, 107 East 4th Avenue, P.O. Box 1517, Williamson, West Virginia 25661 | Oct. 29, 2003 | 540138 D

(Catalog of Federal Domestic Assistance No. 83.100, “Flood Insurance.”)
Dated: December 18, 2003.
Anthony S. Lowe,
Mitigation Division Director, Emergency Preparedness and Response Directorate.

[FR Doc. 04-161 Filed 1-5-04; 8:45 am]

BILLING CODE 9110-12-P